DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate and Notice of Availability of Final Findings.

SUMMARY: The NOAA Office of Ocean and Coastal Resource Management (OCRM) announces its intent to evaluate the performance of the Mississippi Coastal Management Program and the San Francisco Bay Conservation and Development Commission and the California State Coastal Conservancy components of the California Coastal Management Program.

The Coastal Zone Management Program evaluations will be conducted pursuant to section 312 of the Coastal Zone Management Act of 1972, as amended (CZMA) and regulations at 15 CFR Part 923, Subpart L. The CZMA requires continuing review of the performance of states with respect to coastal program implementation. Evaluation of Coastal Management Programs requires findings concerning the extent to which a state has met the national objectives, adhered to its Coastal Management Program document approved by the Secretary of Commerce, and adhered to the terms of financial assistance awards funded under the CZMA.

Each evaluation will include a site visit, consideration of public comments, and consultations with interested Federal, state, and local agencies and members of the public. A public meeting will be held as part of the site visit. Notice is hereby given of the dates of the site visits for the listed evaluations, and the dates, local times, and locations of the public meetings during the site visits.

Dates and Times: The joint San Francisco Bay Conservation and Development Commission and California State Coastal Conservancy evaluation site visit will be held March 9-13, 2009. One public meeting will be held during the week. The public meeting will be held on Monday, March 9, 2009, at 5 p.m. at the San Francisco Bay Conservation and Development Commission, McAteer-Petris Conference Room, 50 California Street, Suite 2600, San Francisco, California.

The Mississippi Coastal Management Program evaluation site visit will be held March 16-20, 2009. One public meeting will be held during the week. The public meeting will be held on Monday, March 16, 2009, at 6 p.m., at the Mississippi Department of Marine Resources, 1141 Bayview Avenue, Biloxi, Mississippi.

ADDRESSES: Copies of states' most recent performance reports, as well as OCRM's evaluation notification and supplemental information request letters to the states, are available upon request from OCRM. Written comments from interested parties regarding these Programs are encouraged and will be accepted until 15 days after the last public meeting held for a Program. Please direct written comments to Kate Barba, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the South Carolina and Virgin Islands Coastal Management Programs (CMPs) and the Jacques Cousteau (NJ) and Grand Bay (MS) National Estuarine Research Reserves (NERRs). Sections 312 and 315 of the Coastal Zone Management Act of 1972 (CZMA), as amended, require a continuing review of the performance of coastal states with respect to approval of CMPs and the operation and management of NERRs.

The Jacques Cousteau and Grand Bay NERRs were found to be adhering to programmatic requirements of the NERR System. The State of South Carolina was found to be implementing and enforcing its federally approved coastal management program, addressing the national coastal management objectives identified in CZMA Section 303(2)(A)-(K), and adhering to the programmatic terms of their financial assistance awards. The evaluation of the Virgin Islands Coastal Management Program focused solely on staffing issues, and the Territory of the U.S. Virgin Islands was found to continue to have difficulty attracting, hiring, and retaining well-qualified staff in sufficient numbers, thus hampering effective implementation of the program.

Copies of these final evaluation findings may be obtained upon written request from: Kate Barba, Chief, National Policy and Evaluation Division, Office of Ocean and Coastal Resource Management, NOS/NOAA, 1305 East-West Highway, 10th Floor, N/ORM7, Silver Spring, Maryland 20910, or Kate.Barba@noaa.gov.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

Federal Domestic Assistance Catalog 11.419 Coastal Zone Management Program Administration

Dated: January 22, 2009.
David M. Kennedy,
Director, Office of Ocean and Coastal Resource Management, National Ocean Service, National Oceanic and Atmospheric Administration.

[FR Doc. E9-2676 Filed 2-9-09; 8:45 am]

BILLING CODE 3510-08-P